COMMITTEE FOR THE IMPLEMENTATION OF TEXTILE AGREEMENTS

Determinations under the Textile and Apparel Commercial Availability Provision of the Dominican Republic-Central America-United States Free Trade Agreement (CAFTA-DR Agreement)

August 12, 2008.

AGENCY: The Committee for the Implementation of Textile Agreements.

ACTION: Determinations to add products in unrestricted quantities to Annex 3.25 of the CAFTA-DR Agreement

EFFECTIVE DATE: August 18, 2008.

SUMMARY: The Committee for the Implementation of Textile Agreements (“CITA”) has made eight determinations that eight woven fabrics, as specified below, are not available in commercial quantities in a timely manner in the CAFTA-DR countries. The fabrics will be added to the list in Annex 3.25 of the CAFTA-DR Agreement in unrestricted quantities.

FOR FURTHER INFORMATION CONTACT: Maria Dybczak, Office of Textiles and Apparel, U.S. Department of Commerce, (202) 482-3651.

FOR FURTHER INFORMATION ON-LINE: http://web.ita.doc.gov/tacgi/CaftaReqTrack.nsf.Reference numbers: 70.2008.06.18.Fabric.GovofDominican Republic; 71.2008.06.18.Fabric.GovofDominican Republic; 72.2008.06.18.Fabric.GovofDominican Republic; 73.2008.06.18.Fabric.GovofDominican Republic; 74.2008.06.18.Fabric.GovofDominican Republic; 75.2008.06.18.Fabric.GovofDominican Republic; 76.2008.06.18.Fabric.GovofDominican Republic; 77.2008.06.18.Fabric.GovofDominican Republic; 78.2008.06.18.Fabric.GovofDominican Republic; 79.2008.06.18.Fabric.GovofDominican Republic; 80.2008.06.18.Fabric.GovofDominican Republic; 81.2008.06.18.Fabric.GovofDominican Republic.

SUPPLEMENTARY INFORMATION:

Authority: Section 203(o)(4) of the Dominican Republic-Central America-United States Free Trade Agreement Implementation Act “(CAFTA-DR Act)”; the Statement of Administrative Action accompanying the CAFTA-DR Act; Presidential Proclamations 7987 (February 28, 2006) and 7996 (March 31, 2006).

BACKGROUND:

The CAFTA-DR Agreement provides a list in Annex 3.25 for fabrics, yarns, and fibers that the Parties to the CAFTA-DR Agreement have determined are not available in commercial quantities in a timely manner in the territory of any Party. The CAFTA-DR Agreement provides that this list may be modified pursuant to Article 3.25(4)-(5), when the President of the United States determines that a fabric, yarn, or fiber is not available in commercial quantities in a timely manner in the territory of any Party. See Annex 3.25, Note; see also section 203(o)(4)(C) of the CAFTA-DR Act.

The CAFTA-DR Act requires the President to establish procedures governing the submission of a request and providing opportunity for interested entities to submit comments and supporting evidence before a commercial availability determination is made. In Presidential Proclamations 7987 and 7996, the President delegated to CITA the authority under section 203(o)(4) of the CAFTA-DR Act for modifying the Annex 3.25 list. On March 21, 2007, CITA published Final Procedures (“procedures”) it would follow in considering Requests to modify the Annex 3.25 list (72 FR 13256).

On June 18, 2008, The Chairman of CITA received eight commercial availability Requests from the Government of the Dominican Republic (“GDR”) for various woven fabrics, of the specifications detailed below. On June 19, 2008, in accordance with CITA's procedures, CITA notified interested parties of, and posted on its website, the accepted Requests and asked that interested entities provide, by July 2, 2008, a Response with an Offer to Supply (“Responses”) advising of its objection to the Request and its ability to supply the subject product. CITA also explained that Rebuttals to Responses were due to CITA by July 9, 2008.

On July 2, 2008, a CAFTA-DR supplier, Monte Textil S.A. (“Monte”), submitted Responses to each of the eight Requests, advising CITA of its objections to the Requests and explaining its ability to supply each of the eight fabrics as specified in commercial quantities in a timely manner. In its Responses to the GDR's Requests, Monte stated its ability to supply the subject fabrics, and provided some detailed information regarding its production capability.

In its Rebuttals to Monte's Responses, the GDR argued that Monte had failed to demonstrate that it has the capability to make the fabrics in question and that in its Responses the company provided only a “broad recitation of its general production capabilities.”

In accordance with section 203(o)(4) of the CAFTA-DR Act, Article 3.25 of the CAFTA-DR Agreement, and section 8(c)(4) of CITA's procedures, because there was insufficient information to make a determination within 30 days, CITA extended the period of making a determination by 14 U.S. business days.

On July 21, 2008, in accordance with section 8(c)(4)(i) of CITA's final procedures, CITA held a public meeting with representatives from the GDR, Grupo M, a Dominican apparel producer, and Monte, to allow the interested entities to provide additional evidence to support their claims and information previously submitted to CITA.

Section 203(o)(4)(C)(ii) of the CAFTA-DR Act provides that after receiving a Request, a determination will be made as to whether the subject product is available in commercial quantities in a timely manner in the CAFTA-DR countries. In the instant case, the information on the record clearly indicates that the GDR, and specifically a Dominican manufacturer, Grupo M, made significant efforts to source the fabrics in the CAFTA-DR countries, including from Monte, and that Monte has not demonstrated that it can supply the specified fabrics in a timely manner. Therefore, in accordance with section 203(o) of the CAFTA-DR Act, and CITA's procedures, as CITA has determined that the subject products are not available in commercial quantities in a timely manner, CITA has determined to add the specified fabrics to the list in Annex 3.25 of the CAFTA-DR Agreement.

The subject fabrics are added to the list in Annex 3.25 of the CAFTA-DR Agreement in unrestricted quantities. A revised list has been published on-line.

CITA notes that, in accordance with section 203(o)(4) of the CAFTA-DR Act, Article 3.25 of the CAFTA-DR Agreement, and section 9 of CITA's procedures, an interested entity may request CITA to remove or restrict the quantity of a product listed in Annex 3.25 six months after the product has been added. If CITA determines that the product is available in commercial quantities in a timely manner in the CAFTA-DR countries, CITA will publish in the Federal Register a notice of its determination of removal or restriction. Accordingly, the product will be removed from the Annex 3.25 list, or its quantity restricted, six months after the publication date of CITA's determination.

Specifications:
70.2008.06.18.Fabric.Govof DominicanRepublic:
Certain Sateen Fabrics
HTS: 5209.39.0020
Fiber Content: 98% cotton/2% spandex
Average Yarn Number:
Metric: 74/1 - 78/1; 26/1 - 28/1
English: 44/1 - 46/1; 14.5/1 - 15.5/1
Thread Count:
Metric: 80-84 warp ends/30-31 filling picks per cm
English: 204-214 warp ends/76-80 filling picks per inch
Weave: Sateen
Weight:
Metric: 248-261 gm/sq. m.
English: 7.3 - 7.8 oz./sq. yd.
Width:
Metric: 134-41 cm
English: 53-55 inches
Finish: Piece dyed | 71.2008.06.18.Fabric.Govof DominicanRepublic:
Certain Dyed Sateen Fabrics
HTS: 5209.39.0020
Fiber Content: 98% cotton/2% spandex
Average Yarn Number:
Metric: 53/1 - 56/1; 53/1 - 56/1; 225 metric spandex
English: 31/1 - 33/1; 31/1 - 33/1; 40 denier spandex
Thread Count:
Metric: 73-77 warp ends/31-32 filling picks per cm
English: 185-195 warp ends/78-82 filling picks per inch
Weave: Sateen
Weight:
Metric: 225-236 gm/sq. m.
English: 6.6 - 7.0 oz./sq. yd.
Width:
Metric: 122-127 cm
English: 48-50 inches
Finish: Piece dyed | 72.2008.06.18.Fabric.Govof DominicanRepublic:
Certain Dyed Twill Fabrics
HTS: 5209.32.00
Fiber Content: 97% cotton/3% spandex
Average Yarn Number:
Metric: 66/1 - 69/1; 26/1 - 28/1; 116 metric spandex
English: 39/1 - 41/1; 16/1; 70 denier spandex
Thread Count:
Metric: 77-81 warp ends/25-26 filling picks per cm
English: 195-205 warp ends/62-66 filling picks per inch
Weave: Three or four thread twill
Weight:
Metric: 231-243 gm/sq. m.
English: 6.8 - 7.2 oz./sq. yd.
Width:
Metric: 129-135 cm
English: 51-53 inches
Finish: Piece dyed | 73.2008.06.18.Fabric.Govof DominicanRepublic: | Certain Dobby Weave Fabrics
HTS: 5209.39.0090
Fiber Content: 98% cotton/2% spandex
Average Yarn Number:
Metric: 53/1 - 56/1; 53/1 - 56/1; 225 metric spandex
English: 31/1 - 33/1; 31/1 - 33/1; 40 denier spandex
Thread Count:
Metric: 69-73 warp ends/ 30-31 filling picks per cm.
English: 176-185 warp ends/76-80 filling picks per inch
Weave: Dobby weave
Weight:
Metric: 225-236 gm/sq. m.
English: 6.6 - 7.0 oz/sq. yd.
Width:
Metric: 119-125 cm
English: 48-50 inches
Finish: Piece dyed | 74.2008.06.18.Fabric.Govof DominicanRepublic: | Certain Plain Weave Fabrics
HTS: 5208.32.40, 5208.32.50
Fiber Content: 100% cotton
Average Yarn Number:
Metric: 66/1 - 69/1; 66/1 - 69/1;
English: 39/1 - 41/1; 39/1 - 41/1;
Thread Count:
Metric: 51-54 warp ends/ 38-40 filling picks per cm.
English: 130-136 warp ends/98-103 filling picks per inch
Weave: Plain weave
Weight:
Metric: 151-159 gm/sq. m.
English: 4.5 - 4.7 oz/sq. yd.
Width:
Metric: 141-148 cm
English: 56-58 inches
Finish: Piece dyed | 75.2008.06.18.Fabric.Govof DominicanRepublic: | Certain Herringbone Twill Fabrics
HTS: 5208.39.2090
Fiber Content: 100% cotton
Average Yarn Number:
Metric: 53/1 - 56/1; 66/1 - 69/1;
English: 31/1 - 33/1; 39/1 - 41/1;
Thread Count:
Metric: 63-66 warp ends/ 35-36 filling picks per cm.
English: 160-168 warp ends/88-92 filling picks per inch
Weave: Herringbone twill
Weight:
Metric: 155-163 gm/sq. m.
English: 4.6 - 4.8 oz/sq. yd.
Width:
Metric: 139-146 cm
English: 55-57 inches
Finish: Piece dyed | 76.2008.06.18.Fabric.Govof DominicanRepublic:
Certain Dobby Weave Fabrics
HTS: 5209.39.0080
Fiber Content: 100% cotton
Average Yarn Number:
Metric: 53/1 - 56/1; 53/1 - 56/1;
English: 31/1 - 33/1; 31/1 - 33/1;
Thread Count:
Metric: 65-69 warp ends/ 53-56 filling picks per cm.
English: 166-174 warp ends/135-141 filling picks per inch
Weave: Dobby Weave
Weight:
Metric: 248 - 261 gm/sq. m.
English: 7.3 - 7.7 oz/sq. yd.
Width:
Metric: 141-148 cm
English: 56-58 inches
Finish: Piece dyed | 77.2008.06.18.Fabric.Govof DominicanRepublic: | Certain Herringbone Twill Fabrics
HTS: 5209.49.0090
Fiber Content: 100% cotton
Average Yarn Number:
Metric: 53/2 - 56/2; 33/1 - 35/1;
English: 31/2 - 33/2; 20/1 - 21/1;
Thread Count:
Metric: 31-32 warp ends/ 24-25 filling picks per cm.
English: 78-82 warp ends/60-64 filling picks per inch
Weave: Herringbone twill
Weight:
Metric: 271-285 gm/sq. m.
English: 8.0 - 8.4 oz/sq. yd.
Width:
Metric: 142-145 cm
English: 56-57 inches
Finish: Yarn dyed

R. Matthew Priest,
Chairman, Committee for the Implementation of Textile Agreements.

[FR Doc. E8-19094 Filed 8-15-08; 8:45 am]

BILLING CODE 3510-DS-S